DEPARTMENT OF TRANSPORTATION

Federal Aviation Administration

14 CFR Part 25

[Docket No. NM358; Special Conditions No. 25-342-SC]

Special Conditions: Gulfstream Aerospace Corporation, Model GV, GV-SP, and GIV-X Airplanes; Windshield Coating in Lieu of Wipers

AGENCY: Federal Aviation Administration (FAA), DOT.

ACTION: Final special conditions.

SUMMARY: This special condition is issued for the Gulfstream Aerospace Corporation Model GV, GV-SP, and GIV-X airplanes. These airplanes will have a novel or unusual design feature(s) associated with the use of a hydrophobic windshield coating, rather than windshield wipers, as the means to maintain a clear portion of the windshield during precipitation conditions, as required by the airworthiness standards for transport category airplanes. The applicable airworthiness regulations do not contain adequate or appropriate safety standards for this design feature. This special condition contains the additional safety standards that the Administrator considers necessary to establish a level of safety equivalent to that established by the existing airworthiness standards.

EFFECTIVE DATE: December 22, 2006.

FOR FURTHER INFORMATION CONTACT: John McConnell, Airplane and Flight Crew Interface Branch, ANM-111, Transport Airplane Directorate, Aircraft Certification Service, 1601 Lind Avenue SW., Renton, Washington, 98057-3356; telephone (425) 227-1365; facsimile (425) 227-1320, e-mail john.mcconnell@faa.gov.

SUPPLEMENTARY INFORMATION:

Background

On December 19, 2005, Gulfstream Aerospace Corporation, PO Box 2206, Savannah, Georgia 31402-2206, applied for a change to Type Certificate No. A12EA to use a hydrophobic windshield coating as the sole means of providing adequate pilot compartment view in the presence of precipitation for Gulfstream Model GV, GV-SP and GIV-X airplanes. The Gulfstream Model GV, GV-SP and GIV-X airplanes are currently approved under Type Certificate No. A12EA. The Model GV airplane is powered by two BMW-Rolls Royce Deutschland BR700-710A1-10 engines, operates with a two person flightcrew, and has the capacity to carry 19 passengers. The Model GV-SP airplane is powered by two BMW-Rolls Royce Deutschland BR700-710C4-11 engines, operates with a two person flightcrew, and has the capacity to carry 19 passengers. The Model GIV-X airplane is powered by two Rolls Royce Tay Mark 611-8C engines, operates with a two person flightcrew, and has the capacity to carry 19 passengers.

Type Certification Basis

Under the provisions of § 21.101, Gulfstream Aerospace Corporation must show that the Model GV, GV-SP and GIV-X airplanes, as changed, continue to meet the applicable provisions of the regulations incorporated by reference in Type Certificate No. A12EA, or the applicable regulations in effect on the date of application for the change. The regulations incorporated by reference in the type certificate are commonly referred to as the “original type certification basis.”

The regulations incorporated by reference in Type Certificate No. A12EA include:

• For Model GV airplanes—part 25, effective February 1, 1965, Amendment 25-1 through Amendment 25-81, with exceptions.

• For Model GV-SP airplanes—part 25, effective February 1, 1965, Amendment 25-1 through Amendment 25-98.

• For Model GIV-X airplanes—part 25, effective February 1, 1965, Amendment 25-1 through Amendment 25-101, with exceptions.

In addition, the certification basis includes other regulations, special conditions and exemptions that are not relevant to this special condition.

If the Administrator finds that the applicable airworthiness regulations (i.e., 14 CFR part 25) do not contain adequate or appropriate safety standards for the Model GV, GV-SP and GIV-X airplanes because of a novel or unusual design feature, special conditions are prescribed under the provisions of § 21.16.

In addition to the applicable airworthiness regulations and special conditions, the Model GV, GV-SP and GIV-X airplanes must comply with the fuel vent and exhaust emission requirements of 14 CFR part 34 and the noise certification requirements of 14 CFR part 36.

The FAA issues special conditions, as defined in § 11.19, under § 11.38, and they become part of the type certification basis under § 21.101.

Special conditions are initially applicable to the model for which they are issued. Should the type certificate for that model be amended later to include any other model that incorporates the same or similar novel or unusual design feature, or should any other model already included on the same type certificate be modified to incorporate the same or similar novel or unusual design feature, the special conditions would also apply to the other model under § 21.101.

Novel or Unusual Design Features

The Gulfstream Model GV, GV-SP and GIV-X flightdeck designs incorporate a hydrophobic windshield coating to provide adequate pilot compartment view in the presence of precipitation. Sole reliance on such a coating, without windshield wipers or a windshield blower, constitutes a novel or unusual design feature for which the applicable airworthiness regulations do not contain adequate or appropriate safety standards. Therefore, special conditions are required that provide the level of safety equivalent to that established by the regulations.

Discussion of Comments

Notice of proposed special conditions No. 25-06-12-SC for Gulfstream Aerospace Corporation Model GV, GV-SP, and GIV-X airplanes was published in the Federal Register on October 31, 2006 (71 FR 63723). No comments were received, and the special condition is adopted as proposed.

Applicability

As discussed above, this special condition is applicable to Gulfstream Model GV, GV-SP and GIV-X airplanes. Should Gulfstream Aerospace Corporation apply at a later date for a change to the type certificate to include another model incorporating the same novel or unusual design feature, the special condition would apply to that model as well.

Effective Upon Issuance

Under standard practice, the effective date of final special conditions would be 30 days after the date of publication in the Federal Register; however, as scheduled airplane deliveries for the Gulfstream Model GV, GV-SP and GIV-X airplanes are imminent, the FAA finds that good cause exists to make this special condition effective upon issuance.

Conclusion

This action affects only certain novel or unusual design features on Gulfstream Model GV, GV-SP, and GIV-X airplanes. It is not a rule of general applicability.

List of Subjects in 14 CFR Part 25

Aircraft, Aviation safety, Reporting and recordkeeping requirements.

The authority citation for these special conditions is as follows:

Authority: 49 U.S.C. 106(g), 40113, 44701, 44702, 44704.

The Special Condition

Accordingly, pursuant to the authority delegated to me by the Administrator, the following special condition is issued as part of the type certification basis for Gulfstream Aerospace Corporation Model GV, GV-SP, and GIV-X airplanes.

Pilot Compartment View—Hydrophobic Coatings in Lieu of Windshield Wipers

The airplane must have a means to maintain a clear portion of the windshield, during precipitation conditions, enough for both pilots to have a sufficiently extensive view along the ground or flight path in normal taxi and flight attitudes of the airplane. This means must be designed to function, without continuous attention on the part of the crew, in conditions from light misting precipitation to heavy rain at speeds from fully stopped in still air, to 1.5 VSR1 with lift and drag devices retracted.

Issued in Renton, Washington, on December 22, 2006.
Ali Bahrami,
Manager, Transport Airplane Directorate, Aircraft Certification Service.

[FR Doc. E7-28 Filed 1-5-07; 8:45 am]

BILLING CODE 4910-13-P